DEPARTMENT OF AGRICULTURE

Grain Inspection, Packers and Stockyards Administration

Notice of Request for Extension of a Currently Approved Information Collection

AGENCY: Grain Inspection, Packers and Stockyards Administration, USDA.

ACTION: Notice and request for comments.

SUMMARY: In compliance with the Paperwork Reduction Act of 1995 (44 U.S.C. Chapter 35), Grain Inspection, Packers and Stockyards Administration (GIPSA) is announcing an opportunity for the public to comment on its intention to request an extension for a currently approved information collection, “Guidelines for Preparation of Research Proposal.” These guidelines provide instructions for submitting grant proposals requesting funds from GIPSA for research to develop procedures and equipment that may be used to measure grain quality.

DATES: Comments on this notice must be received by February 7, 2005, to be assured of consideration.

ADDRESSES: We invite you to submit comments on this notice. You may submit comments by any of the following methods:

• E-mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC 20250-3604.

Instructions: All comments should make reference to the date and page number of this issue of the Federal Register.

Background Documents: Information collection package and other documents relating to this action will be available for public inspection in the above office during regular business hours.

Read Comments: All comments will be available for public inspection in the above office during regular business hours (7 CFR 1.27(b)).

FOR FURTHER INFORMATION CONTACT: Steven N. Tanner, Director, Technical Services Division, USDA, GIPSA, FGIS Technical Center, 10383 N. Ambassador Drive, Kansas City, MO 64153-1394; telephone (816) 891-0401.

SUPPLEMENTARY INFORMATION: Under Section 4a of the United States Grain Standards Act (USGSA; 7 U.S.C. 71 et seq.), GIPSA is responsible for establishing grain standards which accurately describe the quality of grain being traded and for applying these standards uniformly in a nationwide inspection system. Section 16e of the USGSA authorizes the agency to conduct a continuing research program for the purpose of developing methods to improve accuracy and uniformity in grading grain. To carry out this authority, GIPSA maintains an external research program under which research scientists are invited to submit research grant proposals that include the objectives of the proposed work; application of the proposed work to the grain inspection system; the procedures, equipment, personnel, etc., that will be used to reach the project objectives; the cost of the project; a schedule for completion; qualifications of the investigator and the grantee organization; and a listing of all other sources of financial support for the project. GIPSA utilizes the Guidelines for Preparation of Research Proposals to assist grant applicants with preparation of grant proposals.

Title: Guidelines for Preparation of Research Proposal.

OMB Number: 0580-0014.

Expiration Date of Approval: February 28, 2005.

Type of Request: Extension of a currently approved information collection.

Abstract: The Grain Inspection, Packers and Stockyards Administration is interested in supporting research to develop procedures and equipment that may be used to measure grain quality. The Guidelines for Preparation of Research Proposal provides instructions for submitting grant proposals requesting funds from GIPSA for this purpose.

Estimate of Burden: Public reporting for this collection of information is estimated to average 20 hours per response.

Respondents: Organizations who employ scientists and engineers who do research and development on procedures and equipment that may be used to provide measurement of grain quality.

Estimated Number of Respondents: 2.

Estimated Number of Responses per Respondent: 1.

Estimated Total Annual Burden on Respondents: 40 hours.

Copies of this information collection can be obtained from Cathy McDuffie, the Information Management Specialist, at (301) 734-5190.

Comments: Comments are invited on: (a) Whether the collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or forms of information technology. All responses to this notice will be summarized and included in the request for OMB approval. All comments will also become a matter of public record.

Donna Reifschneider,
Administrator, Grain Inspection, Packers and Stockyards Administration.

[FR Doc. 04-26860 Filed 12-7-04; 8:45 am]

BILLING CODE 3410-EN-P